DEPARTMENT OF LABOR

Employment and Training Administration

[TA-W-64,158]

NCM Chassis Systems, LLC, a Subsidiary of Metaldyne Company, LLC, Including On-Site Leased Workers From Securitas, Fuch's Lubricants, Inc., Alpha Placement Services and Ferguson Enterprises, Inc., New Castle, IN; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on October 23, 2008 applicable to workers of NCM Chassis Systems, LLC, a subsidiary of Metaldyne Company, LLC, New Castle, Indiana. The notice was published in the Federal Register on November 10, 2008 (73 FR 66676). The notice was amended on August 26, 2009 to include leased workers from Securitas and Fuch's Lubricants, Inc., who were employed on-site at the New Castle, Indiana site. The notice was published in the Federal Register on September 22, 2009 (74 FR 48298).

At the request of the State agency, the Department reviewed the certification for workers of the subject firm. The workers are engaged in the production of chassis components for the automobile industry.

New information shows that workers leased from Alpha Placement Services and Ferguson Enterprises, Inc. were employed on-site at the New Castle, Indiana location of NCM Chassis Systems, LLC. The Department has determined that these workers were sufficiently under the control of the subject firm to be considered leased workers.

Based on these findings, the Department is amending this certification to include workers leased from Alpha Placement Services and Ferguson Enterprises, Inc., working on-site at the New Castle, Indiana site location of NCM Chassis Systems, LLC.

The amended notice applicable to TA-W-64,158 is hereby issued as follows:

All workers of NCM Chassis Systems, LLC, a subsidiary of Metaldyne Company, LLC, including on-site leased workers from Securitas, Fuch's Lubricants, Inc., Alpha Placement Services and Ferguson Enterprises, Inc., New Castle, Indiana who became totally or partially separated from employment on or after October 1, 2007, through October 23, 2010 are eligible to apply for adjustment assistance under Section 223 of the Trade Act of 1974, and are also eligible to apply for alternative trade adjustment assistance under Section 246 of the Trade Act of 1974.

Signed at Washington, DC, this 16th day of October 2009.
Elliott S. Kushner,
Certifying Officer, Division of Trade Adjustment Assistance.

[FR Doc. E9-25794 Filed 10-26-09; 8:45 am]

BILLING CODE 4510-FN-P